DEPARTMENT OF DEFENSE

Department of the Army

Reserve Officers' Training Corps Program Subcommittee; Meeting

AGENCY: Department of the Army, DoD.

ACTION: Notice; date correction.

SUMMARY: The open meetings scheduled for June 25, 2002 from 8 a.m. to 5 p.m. and June 27, 2002 from 8 a.m. to 5 p.m. published in the Federal Register on May 24, 2002 (67 FR 36577) have been rescheduled. The open meeting will now be held on October 1, 2002 from 8 a.m. to 5 p.m. and on October 2, 2002 from 8 a.m. to 12 p.m. in Hampton, Virginia at the Radisson Hotel Hampton.

FOR FURTHER INFORMATION CONTACT: Commander, HQ U.S. Army Cadet Command, ATTN: ATCC-TT (Mrs. Johnson), Fort Monroe, VA 23651. Telephone number is (757) 788-4586.

SUPPLEMENTARY INFORMATION: This meeting is open to the public. Any interested person may attend, appear before, or file statements with the committee.

Luz D. Ortiz,
Army Federal Register Liaison Officer.

[FR Doc. 02-21306 Filed 8-20-02; 8:45 am]

BILLING CODE 3710-08-M